DEPARTMENT OF AGRICULTURE

Agricultural Marketing Service

7 CFR Part 930

[Docket No. FV02-930-3 PR]

Tart Cherries Grown in the States of Michigan, et al.; Increased Assessment Rates; Withdrawal of a Proposed Rule

AGENCY: Agricultural Marketing Service, USDA.

ACTION: Withdrawal of proposed rule.

SUMMARY: This action withdraws a proposed rule published in the Federal Register on June 10, 2002 (67 FR 39637), which would have increased the assessment rate for cherries that are utilized in the production of tart cherry products other than juice, juice concentrate, or puree from $0.00175 to $0.0021 per pound. It also would have increased the assessment rate for cherries utilized for juice, juice concentrate, or puree from $0.000875 to $0.00105 per pound. Both assessment rates would have applied to the 2002-2003 and subsequent fiscal periods. Since the proposed rule was published, the tart cherry marketing order was amended (August 8, 2002; 67 FR 51697). The provisions requiring the establishment of different assessment rates for different products were removed. In their place, the Cherry Industry Administrative Board (Board) is required to consider the volume of cherries used in making various products and the relative market value of those products in deciding whether the assessment rate should be a single, uniform rate applicable to all cherries or whether varying rates should be recommended for cherries manufactured into different products. At this time, it is the Board's intention to recommend one assessment rate applicable to all cherries so this action is no longer necessary.

DATES: The proposed rule published on June 10, 2002 (67 FR 39637) is withdrawn as of April 3, 2003.

FOR FURTHER INFORMATION CONTACT: Patricia A. Petrella or Kenneth G. Johnson, Marketing Order Administration Branch, Fruit and Vegetable Programs, AMS, USDA, Unit 155, Room 2A38, 4700 River Road, Riverdale, MD 20737, telephone: (301) 734-5243, or Fax: (301) 734-5275; or George Kelhart, Technical Advisor, Marketing Order Administration Branch, Fruit and Vegetable Programs, AMS, USDA, 1400 Independence Avenue, SW., Stop 0237, Washington, DC 20250-0237; telephone: (202) 720-2491, or Fax: (202) 720-8938.

Small businesses may request information on complying with this regulation, or obtain a guide on complying with fruit, vegetable, and specialty crop marketing agreements and orders by contacting Jay Guerber, Marketing Order Administration Branch, Fruit and Vegetable Programs, AMS, USDA, 1400 Independence Avenue, SW., Stop 0237, Washington, DC 20250-0237; telephone: (202) 720-2491, Fax: (202) 720-8938, or E-mail: Jay.Guerber@usda.gov.

SUPPLEMENTARY INFORMATION: This rule is issued under Marketing Agreement and Order No. 930 (7 CFR part 930), regulating the handling of tart cherries grown in the States of Michigan, New York, Pennsylvania, Oregon, Utah, Washington, and Wisconsin, hereinafter referred to as the “order.” The marketing agreement and order are effective under the Agricultural Marketing Agreement Act of 1937, as amended (7 U.S.C. 601-674), hereinafter referred to as the “Act.”

This action withdraws a proposed rule published in the Federal Register on June 10, 2002 (67 FR 39637), which would have increased the assessment rate for cherries that are utilized in the production of tart cherry products other than juice, juice concentrate, or puree from $0.00175 to $0.0021 per pound. It also would have increased the assessment rate for cherries utilized for juice, juice concentrate, or puree from $0.000875 to $0.00105 per pound. Both assessment rates would have applied to the 2002-2003 and subsequent fiscal periods.

Since the proposed rule was published, the tart cherry marketing order was amended (August 8, 2002; 67 FR 51697). The provisions requiring the establishment of different assessment rates for different products were removed. The Cherry Industry Administrative Board (Board) now is required to consider the volume of cherries used in making various products and the relative market value of those products in deciding whether the assessment rate should be a single, uniform rate applicable to all cherries or whether varying rates should be recommended for cherries manufactured into different products. At this time, it is the Board's intention to recommend one assessment rate applicable to all cherries so this action is no longer necessary.

Therefore, the proposed rule regarding an increase in the assessment rates for cherries published in the Federal Register on June 10, 2002 (67 FR 39637), is hereby withdrawn.

List of Subjects in 7 CFR Part 930

Marketing agreements, Reporting and recordkeeping requirements, Tart cherries.

Authority: 7 U.S.C. 601-674.

Dated: March 27, 2003.
A.J. Yates,
Administrator, Agricultural Marketing Service.

[FR Doc. 03-7939 Filed 4-1-03; 8:45 am]

BILLING CODE 3410-02-P